GENERAL SERVICES ADMINISTRATION

[Docket No. 2011-0006; Sequence 2]

Federal Procurement Data System Product Service Code Manual Update

AGENCY: Office of Governmentwide Policy, General Services Administration (GSA).

ACTION: Notice.

SUMMARY: This notice announces that the Products and Services Code (PSC) Manual, which provides codes to describe products, services, and research and development purchased by the government, is in the process of being updated; GSA, which maintains the PSC Manual, is in the process of updating the manual.

DATES: Effective date: January 24, 2011.

Comment date: A draft of the PSC Manual will be posted at http://blog.citizen.apps.gov/GSA_PSC_Manual/. Comments on the draft PSC Manual must be posted at http://blog.citizen.apps.gov/GSA_PSC_Manual, “Comments” section, between February 8, 2011 and March 9, 2011.

FOR FURTHER INFORMATION CONTACT: Ms. Pat Brooks at pat.brooks@gsa.gov.

SUPPLEMENTARY INFORMATION:

The Products and Services Code (PSC) Manual provides codes to describe products, services, and research and development purchased by the government. The codes are one of the data elements reported in the Federal Procurement Data System (FPDS). GSA, which maintains the PSC Manual, is in the process of updating the manual. The changes will include updating the descriptions, adding or deleting codes as necessary, and adding environmental/sustainability attributes required for reporting to the Office of Management and Budget.

A draft of the proposed PSC Manual will be posted in a GSA blog application, http://blog.citizen.apps.gov/GSA_PSC_Manual/ on February 8, 2011. There will be a “Comment” section in the blog. A thirty (30) day comment period will be available.

Dated: January 18, 2011.
Rodney Lantier,
Assistant Deputy Associate Administrator, Office of Acquisition Policy, Office of Governmentwide Policy.

[FR Doc. 2011-1291 Filed 1-21-11; 8:45 am]

BILLING CODE 6820-34-P